CONSUMER PRODUCT SAFETY COMMISSION

[Docket No. CPSC-2011-0074]

Notice of Availability: Table Saw Blade-Contact Injuries Special Study Report, 2017

AGENCY: U.S. Consumer Product Safety Commission.

ACTION: Notice of availability.

SUMMARY: The Consumer Product Safety Commission (CPSC) is announcing the availability of a report titled, “Table Saw Blade-Contact Injuries Special Study Report, 2017.” The CPSC requests comments on the report.

DATES: Submit comments by February 4, 2019.

ADDRESSES: You may submit comments, identified by Docket No. CPSC-2011-0074, by any of the following methods:

Electronic Submissions: Submit electronic comments to the Federal eRulemaking Portal at: http://www.regulations.gov. Follow the instructions for submitting comments. The CPSC does not accept comments submitted by electronic mail (email), except through www.regulations.gov. The CPSC encourages you to submit electronic comments by using the Federal eRulemaking Portal, as described above.

Written Submissions: Submit written submissions by mail/hand delivery/courier to: Division of the Secretariat, Consumer Product Safety Commission, Room 820, 4330 East-West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number CPSC-2011-0074, into the “Search” box, and follow the prompts.

FOR FURTHER INFORMATION CONTACT: Caroleene Paul, Directorate for Engineering Sciences, U.S. Consumer Product Safety Commission, 5 Research Place, Rockville, MD 20850; telephone: 301-987-2225; email: cpaul@cpsc.gov.

SUPPLEMENTARY INFORMATION: On May 12, 2017, the CPSC published in the Federal Register a notice of proposed rulemaking (NPR) on a safety standard for table saw blade-contact injuries. 82 FR 22190. In January 2017, staff began collecting additional information on incident data identified in the National Electronic Injury Surveillance System (NEISS) for table saws to: (1) Obtain information regarding the type of table saws involved in the cases to generate national estimates by saw type and estimated risk of injury associated with each table saw type; (2) gain information regarding the type and usage pattern of the blade guard; and (3) collect additional injury and incident data.

On April 27, 2017, the Commission held a decisional hearing on the NPR. The Commission directed “staff to analyze and seek public comment on the Table Saw Study started in January 2017, based on the most appropriate time period that will generate information to determine a national estimate from NEISS incidents. Results will be published in the Federal Register for notice and comment as part of the docket for this rulemaking.”

CPSC staff has completed the report titled, Table Saw Blade-Contact Injuries Special Study Report, 2017. The report is available on the CPSC's website at: https://www.cpsc.gov/Newsroom/FOIA/ReportList?field_nfr_type_value=commission, and in http://www.regulations.gov, under Supporting and Related Materials, docket number CPSC-2011-0074, and from the CPSC's Division of the Secretariat, at the location listed in the ADDRESSES section of this notice.

The CPSC invites comments on the report. Comments should be submitted by February 4, 2019. Information on how to submit comments can be found in the ADDRESSES section of this notice.

Abioye Mosheim,
Acting Secretary, Consumer Product Safety Commission.

[FR Doc. 2018-26260 Filed 12-3-18; 8:45 am]

BILLING CODE 6355-01-P